DEPARTMENT OF DEFENSE

Defense Acquisition Regulations System

48 CFR Parts 219 and 252

[Docket DARS-2020-0001]

Defense Federal Acquisition Regulation Supplement: Technical Amendments

AGENCY: Defense Acquisition Regulations System, Department of Defense (DoD).

ACTION: Final rule.

SUMMARY: DoD is making needed technical amendments to update the Defense Federal Acquisition Regulation Supplement (DFARS).

DATES: Effective August 31, 2020.

FOR FURTHER INFORMATION CONTACT: Ms. Jennifer L. Hawes, Defense Acquisition Regulations System, OUSD (A&S) DPC (DARS), Room 3B938, 3060 Defense Pentagon, Washington, DC 20301-3060. Telephone 571-372-6115.

SUPPLEMENTARY INFORMATION: This final rule amends the DFARS as follows to:

1. Remove section 219.303 to align with the Federal Acquisition Regulation (FAR). Section 219.303 is now reserved in the FAR and appropriate coverage is located at FAR 19.102(b), Determining the appropriate NAICS codes for the solicitation. https://www.govinfo.gov/content/pkg/FR-2020-02-27/pdf/2020-02028.pdf#page=23.

2. Update the 219.5 subpart heading to align with the FAR subpart heading.

3. Revise the section 219.502-2 heading to align with the FAR coverage and renumber the section paragraph. Paragraph (a) in FAR 19.502-2 addresses acquisitions below the simplified acquisition threshold (SAT). The DFARS text addresses specific types of acquisitions at dollar values below, at, and above the SAT. The section is being renumbered to reflect implementation of the whole section (i.e., FAR 19.502-2(a) and (b)), not just a single paragraph.

4. Redesignate section 219.505 as 219.502-8 to align with the FAR.

5. Update the section 219.808 heading to align with the FAR.

6. Correct cross references in the introductory text for the following clauses: 252.245-7000, 252.245-7001, 252.245-7002, and 252.245-7003.

List of Subjects in 48 CFR Parts 219 and 252

Government procurement.

Jennifer Lee Hawes,
Regulatory Control Officer, Defense Acquisition Regulations System.

Therefore, 48 CFR parts 219 and 252 are amended as follows:

1. The authority citation for 48 CFR parts 219 and 252 continues to read as follows:

Authority: 41 U.S.C. 1303 and 48 CFR chapter 1.

PART 219—SMALL BUSINESS PROGRAMS

219.303 [Removed]

2. Remove section 219.303.

3. Revise the heading for subpart 219.5 to read as follows:

Subpart 219.5—Small Business Total Set-Asides, Partial Set-Asides, and Reserves

4. Revise section 219.502-2 to read as follows:

219.502-2 Total small business set-asides.

Unless the contracting officer determines that the criteria for set-aside cannot be met, set aside for small business concerns acquisitions for—

(1) Construction, including maintenance and repairs, under $2.5 million;

(2) Dredging under $1.5 million; and

(3) Architect-engineer services for military construction or family housing projects under $1 million (10 U.S.C. 2855).

219.505 [Redesignated as 219.502-8]

5. Redesignate section 219.505 as section 219.502-8.

219.808 [Amended]

6. Amend the heading for section 219.808 by removing “negotiations” and adding “negotiation” in its place.

PART 252—SOLICITATION PROVISIONS AND CONTRACT CLAUSES

252.245-7000 [Amended]

7. Amend section 252.245-7000 introductory text by removing “245.107(1)” and adding “245.107(2)” in its place.

252.245-7001 [Amended]

8. Amend section 252.245-7001 introductory text by removing “245.107(2)” and adding “245.107(3)” in its place.

252.245-7002 [Amended]

9. Amend section 252.245-7002 introductory text by removing “245.107(3)” and adding “245.107(4)” in its place.

252.245-7003 [Amended]

10. Amend section 252.245-7003 introductory text by removing “245.107(4)” and adding “245.107(5)” in its place.

[FR Doc. 2020-18635 Filed 8-28-20; 8:45 am]

BILLING CODE 5001-06-P